DEPARTMENT OF DEFENSE

Office of the Secretary

[Docket ID: DOD-2020-OS-0046]

Submission for OMB Review; Comment Request

AGENCY: Office of the Under Secretary of Defense for Personnel & Readiness, Department of Defense (DoD).

ACTION: 30-Day information collection notice.

SUMMARY: The DoD has submitted to OMB for clearance the following proposal for collection of information under the provisions of the Paperwork Reduction Act.

DATES: Consideration will be given to all comments received by August 17, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Department of Defense Child Development Program Request for Care Record (DD FORM 2606) & Application for Department of Defense Child Care Fees (DD FORM 2652); OMB Control Number 0704-0515.

Type of Request: Renewal with a change in collection.

Number of Respondents:

DD 2606: 12,500.

DD 2652: 50,000.

Total Number of Respondents: 62,500.

Responses per Respondent:

DD 2606: 1.

DD 2652: 1.

Annual Responses:

DD 2606: 12,500.

DD 2652: 50,000.

Total Annual Responses: 62,500.

Average Burden per Response:

DD 2606: 5 minutes.

DD 2652: 5 minutes.

Annual Burden Hours:

DD 2606: 1,042 hours.

DD 2656: 4,167 hours.

Total Annual Burden Hours: 5,209 hours.

Needs and Uses: The DoD requires the information in the proposed collection for program planning and management purposes. This rule includes two collection instruments to include DD Form 2606, “Department of Defense Child Development Program Request for Care Record” and DD Form 2652 “Application for Department of Defense Child Care Fees.” DoD is seeking clearance of DD Form 2606 and DD Form 2652 with this submission.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: July 13, 2020.
Aaron T. Siegel,
Alternate OSD Federal Register Liaison Officer, Department of Defense.

[FR Doc. 2020-15529 Filed 7-16-20; 8:45 am]

BILLING CODE 5001-06-P